DEPARTMENT OF THE INTERIOR

Bureau of Ocean Energy Management

[Docket No. BOEM-2018-0054]

Outer Continental Shelf (OCS), Alaska Region (AK), Beaufort Sea Program Area, Proposed 2019 Beaufort Sea Oil and Gas Lease Sale

AGENCY: Bureau of Ocean Energy Management, Interior

ACTION: Notice of Intent to Prepare an Environmental Impact Statement, announce the area identified for leasing, and hold public scoping meetings.

SUMMARY: Consistent with the regulations implementing the National Environmental Policy Act (NEPA), the Bureau of Ocean Energy Management (BOEM) is announcing its intent to prepare an Environmental Impact Statement (EIS) for the proposed 2019 Beaufort Sea Lease Sale in the Beaufort Sea Planning Area. The EIS will focus on the potential effects of leasing, exploration, development, and production of oil and natural gas in the proposed lease sale area. In addition to the no action alternative (i.e., not holding the lease sale), other alternatives will be considered. Consistent with the regulations implementing the Outer Continental Shelf Lands Act (OCSLA), BOEM is also announcing the area recommended for leasing.

DATES: Comments: All interested parties, including Federal, State, Tribal, and local governments, and the general public, may submit written comments by December 17, 2018 on the scope of the 2019 Beaufort Sea Lease Sale EIS, significant issues, reasonable alternatives, potential mitigation measures, and the types of oil and gas activities of interest in the proposed lease sale area.

Comments may be made on-line. Navigate to http://www.regulations.gov and search for Docket BOEM-2018-0054, or “Oil and Gas Lease Sales: Alaska Outer Continental Shelf; 2019 Beaufort Sea Lease Sale”, and click on the “Comment Now!” button. Enter your information and comment, and then click “Submit.” Before including your address, phone number, email address, or other personal identifying information in your comment, you should be aware that your entire comment—including your personal identifying information—may be made publicly available at any time. While you can ask us in your comment to withhold your personal identifying information from public review, we cannot guarantee that we will be able to do so.

ADDRESSES: Scoping Meetings: Pursuant to the regulations implementing the procedural provisions of NEPA, BOEM will hold public scoping meetings. The purpose of these meetings is to solicit comments on the scope of the 2019 Beaufort Sea Lease Sale EIS. All meetings will start at 7:00 p.m. and conclude at 9:00 p.m., and are scheduled as follows:

• December 3, 2018, Barrow High School, Utqiaġvik, Alaska;

• December 4, 2018, Kisik Community Center, Nuiqsut, Alaska;

• December 5, 2018, Community Center, Kaktovik, Alaska; and

• December 6, 2018, Dena'ina Civic and Convention Center, Anchorage, Alaska.

FOR FURTHER INFORMATION CONTACT: For information on the 2019 Beaufort Sea Lease Sale EIS, the submission of comments, or BOEM's policies associated with this notice, please contact Sharon Randall, Chief of Environmental Analysis Section, BOEM, Alaska OCS Region, 3801 Centerpoint Drive, Suite 500, Anchorage, AK 99503, (907) 334-5200.

SUPPLEMENTARY INFORMATION: On January 4, 2018, the Secretary of the Interior released the 2019-2024 National OCS Oil and Gas Leasing Draft Proposed Program. The Draft Proposed Program includes the proposed 2019 Beaufort Sea Lease Sale.

The proposed lease sale area includes all available OCS blocks in the Beaufort Sea Planning Area. The Beaufort Sea Planning Area is located offshore of the State of Alaska and consists of 11,876 whole and partial lease blocks covering roughly 26.2 million hectares (approximately 65 million acres) of the Beaufort Sea. To view the specifics of the area recommended for leasing, go to: https://www.boem.gov/beaufort2019.

This Notice of Intent is not an announcement to hold a lease sale, but is a continuation of the information gathering process and is published early in the environmental review process in furtherance of the goals of NEPA. The comments received during scoping will help inform the content of the 2019 Beaufort Sea Lease Sale EIS. If, after completion of the EIS, the Department of the Interior's Assistant Secretary for Land and Minerals Management chooses to hold the proposed lease sale, that decision and the details related to the lease sale (including the lease sale area and any mitigation) will be announced in a Record of Decision and Final Notice of Sale.

Scoping Process: This Notice of Intent also serves to announce the scoping process for identifying key issues to be addressed in the 2019 Beaufort Sea Lease Sale EIS. Throughout the scoping process, Federal, State, Tribal and local governments, and the general public have the opportunity to provide input to BOEM in determining significant resources, issues, impacting factors, reasonable alternatives, and potential mitigation measures to be analyzed in the EIS.

BOEM has developed and also seeks public input on the following draft alternatives:

• Offshore Whaling Areas Alternative: This alternative is proposed to minimize conflicts between subsistence whaling practices and oil and gas activities.

• Environmentally Important Areas Alternative: This alternative is proposed to reduce impacts to several known environmentally important areas (Barrow Canyon, Harrison Bay/Colville River Delta, the Bolder Patch, and Kaktovik).

• Deepwater Exclusion Alternative: This alternative is proposed to focus the environmental analyses while offering leases in areas with the highest known resource potential.

Maps and more details on each of these draft alternatives can be found at: https://www.boem.gov/beaufort2019.

These draft alternatives are based on previous OCS Oil and Gas Leasing Program and response to stakeholder comments made during the development of the 2019-2024 Draft Proposed Program (published January 8, 2018 (83 FR 829)). BOEM is proceeding in a manner that allows for maximum flexibility in adapting these preliminary alternatives to future Program decisions.

BOEM will consider additional alternatives, exclusion and/or mitigation suggestions identified during scoping meetings and the comment period initiated by this notice of intent in the preparation of the EIS.

BOEM will use the NEPA commenting process to satisfy the public comment requirements of section 106 of the National Historic Preservation Act (16 U.S.C. 470f), as provided for in 36 CFR 800.2(d)(3).

Cooperating Agencies: BOEM invites qualified government entities such as other Federal agencies, State, Tribal, and local governments, to consider becoming cooperating agencies for the preparation of the 2019 Beaufort Sea Lease Sale EIS. Following the guidelines at 40 CFR 1501.6 and 1508.5 from the Council on Environmental Quality (CEQ), qualified agencies and governments are those with “jurisdiction by law or special expertise.” Potential cooperating agencies should consider their authority and capacity to assume the responsibilities of a cooperating agency and remember that an agency's role in the environmental analysis neither enlarges nor diminishes the final decision-making authority of any other agency involved in the NEPA process. Upon request, BOEM will provide potential cooperating agencies with a written summary of guidelines for cooperating agencies, including time schedules and critical action dates, milestones, responsibilities, scope and detail of cooperating agencies' contributions, and availability of predecisional information. BOEM anticipates this summary will form the basis for a Memorandum of Understanding between BOEM and any cooperating agency. BOEM, as the lead agency, will not provide financial assistance to cooperating agencies. In addition to becoming a cooperating agency, other opportunities will exist to provide information and comments to BOEM during the public comment period for the EIS. For additional information about cooperating agencies, please contact Sharon Randall, Chief of Environmental Analysis Section, BOEM (907-334-5200).

Authority: This notice of intent is published pursuant to the regulations at 40 CFR 1501.7 implementing the provisions of NEPA.

Dated: November 7, 2018.
Walter D. Cruickshank,
Acting Director, Bureau of Ocean Energy Management.

[FR Doc. 2018-24739 Filed 11-15-18; 8:45 am]

BILLING CODE 4310-MR-P